DEPARTMENT OF ENERGY

Federal Energy Regulatory Commission

[Docket No. EC01-20-000]

Northwestern Wisconsin Electric Company; Notice of Filing

January 24, 2001.

Take notice that on January 22, 2001, Northwestern Wisconsin Electric Company (NWE), tendered for filing pursuant to Section 203 of the Federal Power Act, 16 U.S.C. Section 8245b, an amendment to its Application for approval to transfer operational control over certain identified transmission facilities to the Midwest Independent Transmission System Operator, Inc. (Midwest ISO). NWE states in the amendment that NWE's application to transfer operational control of the identified facilities to the Midwest ISO will not adversely affect competition, rates, regulation or generation.

NWE states the filing has been served on the Public Service Commission of Wisconsin; the Midwest ISO; Dairyland Power Cooperative; Xcel Energy; the Village of Centuria, Wisconsin; Ziegler Incorporated; Utilities Plus; and Polk-Burnett Electric Cooperative.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before February 2, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http:

//www.ferc.fed.us/efi/doorbell.htm.

Linwood A. Watson, Jr.,
Acting Secretary.

[FR Doc. 01-2549 Filed 1-29-01; 8:45 am]

BILLING CODE 6717-01-M